ENVIRONMENTAL PROTECTION AGENCY

[FRL-9962-16-OECA]

See the Item Specific Docket Numbers Provided in the Text: Proposed Information Collection Request; Comment Request; See Item Specific ICR Titles Provided in the Text

AGENCY: Environmental Protection Agency (EPA).

ACTION: Notice.

SUMMARY: The Environmental Protection Agency is planning to submit the below listed information collection requests (ICRs) (See item specific ICR title, EPA ICR Number and OMB Control Number provided in the text) to the Office of Management and Budget (OMB) for review and approval in accordance with the Paperwork Reduction Act. Before doing so, EPA is soliciting public comments on specific aspects of the proposed information collection as described below. These are proposed extension of 70 currently approved ICRs, and request for approval of two new collections. An Agency may not conduct or sponsor and a person is not required to respond to a collection of information unless it displays a currently valid OMB control number.

DATES: Comments must be submitted on or before August 28, 2017.

ADDRESSES: Submit your comments, referencing the Docket ID numbers provided for each item in the text, online using www.regulations.gov (our preferred method), by email to docket.oeca@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

General Abstract: For all the listed ICRs in this notice, owners and operators of affected facilities are required to comply with reporting and record keeping requirements for the general provisions of 40 CFR part 60, subpart A or Part 63, Subpart A, as well as the applicable specific standards. This includes submitting initial notifications, performance tests and periodic reports and results, and maintaining records of the occurrence and duration of any startup, shutdown, or malfunction in the operation of an affected facility, or any period during which the monitoring system is inoperative. These reports are used by EPA to determine compliance with the standards.

(1) Docket ID Number: EPA-HQ-OECA-2013-0019; Title: NSPS for Electric Utility Steam Generating Units (40 CFR part 60, subpart Da); EPA ICR Number 1053.12; OMB Control Number 2060-0023; Expiration Date: December 31, 2017.

Respondents: Electric utility steam generating facilities.

Respondent's obligation to respond: Mandatory (40 CFR part 63, subpart Da).

Estimated number of respondents: 699 (total).

Frequency of response: Initially and semiannually.

Estimated annual burden: 168,000 hours.

Estimated annual cost: $29,200,000, includes $12,700,000 annualized capital or operation & maintenance (O&M) costs.

Changes in Estimates: There is a projected increase in burden due to an increase in the number of sources subject to the regulation.

(2) Docket ID Number: EPA-HQ-OECA-2013-0332; Title: NSPS for Small Industrial-Commercial-Institutional Steam Generating Units (40 CFR part 60, subpart Dc); EPA ICR Number 1564.10; OMB Control Number 2060-0202; Expiration Date: December 31, 2017.

Respondents: Industrial-commercial-institutional steam generating units with maximum design heat input capacity of 29 megawatts (MW) or less, but greater than or equal to 2.9 MW.

Respondent's obligation to respond: Mandatory (40 CFR part 60, subpart Dc).

Estimated number of respondents: 268 (total).

Frequency of response: Initially and semiannually.

Annual estimated burden: 182,000 hours.

Annual estimated cost: $28,600,000, includes $10,800,000 annualized capital or O&M costs.

Changes in Estimates: There is a projected increase in burden due to an increase in the number of sources subject to the regulation.

(3) Docket ID Number: EPA-HQ-OECA-2013-0326; Title: NSPS for Asphalt Processing and Roofing Manufacturing (40 CFR part 60, subpart UU); EPA ICR Number 0661.12; OMB Control Number 2060-0002; Expiration Date: April 30, 2018.

Respondents: Asphalt processing and roofing manufacture plants.

Respondent's obligation to respond: Mandatory (40 CFR part 60, subpart UU).

Estimated number of respondents: 144 (total).

Frequency of response: Initially, occasionally and semiannually.

Annual estimated burden: 33,900 hours.

Annual estimated cost: $8,560,000, includes $5,240,000 annualized capital or O&M costs.

Changes in Estimates: There is a projected increase in burden due to reconstruction of existing sources.

(4) Docket ID Number: EPA-HQ-OECA-2014-0028; Title: NSPS for Calciners and Dryers in Mineral Industries (40 CFR part 60, subpart UUU); EPA ICR Number 0746.10; OMB Control Number 2060-0251; Expiration Date: April 30, 2018.

Respondents: Calciners and dryers at mineral facilities.

Respondent's obligation to respond: Mandatory (40 CFR part 60, subpart UUU).

Estimated number of respondents: 167 (total).

Frequency of response: Initially, occasionally and semiannually.

Annual estimated burden: 6,440 hours.

Annual estimated cost: $739,000, includes $109,000 annualized capital or O&M costs.

Changes in Estimates: There is no change in burden from the previous ICR.

(5) Docket ID Number: EPA-HQ-OECA-2013-0324; Title: NESHAP for Marine Tank Vessel Loading Operations (40 CFR part 63, subpart Y); EPA ICR Number 1679.10; OMB Control Number 2060-0289; Expiration Date: April 30, 2018.

Respondents: Marine tank vessel loading plants.

Respondent's obligation to respond: Mandatory (40 CFR part 63, subpart Y).

Estimated number of respondents: 804 (total).

Frequency of response: Initially and annually.

Annual estimated burden: 9,890 hours.

Annual estimated cost: $968,000, includes no annualized capital or O&M costs.

Changes in Estimates: There is no change in burden from the previous ICR.

(6) Docket ID Number: EPA-HQ-OECA-2013-0347; Title: NESHAP for Epoxy Resin and Non-Nylon Polyamide Production (40 CFR part 63, subpart W); EPA ICR Number 1681.09; OMB Control Number 2060-0290; Expiration Date: April 30, 2018.

Respondents: Epoxy resin and non-nylon polyamide plants.

Respondent's obligation to respond: Mandatory (40 CFR part 63, subpart W).

Estimated number of respondents: 7 (total).

Frequency of response: Initially, occasionally and semiannually.

Annual estimated burden: 3,960 hours.

Annual estimated cost: $390,000, includes $9,000 annualized capital or O&M costs.

Changes in Estimates: There is no change in burden from the previous ICR.

(7) Docket ID Number: EPA-HQ-OECA-2014-0056; Title: NESHAP for Shipbuilding and Ship Repair Facilities—Surface Coating (40 CFR part 63, subpart II); EPA ICR Number 1712.10; OMB Control Number 2060-0330; Expiration Date: April 30, 2018.

Respondents: Shipbuilding and repair facilities.

Respondent's obligation to respond: Mandatory (40 CFR part 63, subpart II).

Estimated number of respondents: 56 (total).

Frequency of response: Initially and semiannually.

Annual estimated burden: 28,600 hours.

Annual estimated cost: $2,800,000, includes no annualized capital or O&M costs.

Changes in Estimates: There is no change in burden from the previous ICR.

(8) Docket ID Number: EPA-HQ-OECA-2013-0351; Title: NESHAP for Solvent Extraction for Vegetable Oil Production (40 CFR part 63, subpart GGGG); EPA ICR Number 1947.07; OMB Control Number 2060-0471; Expiration Date: April 30, 2018.

Respondents: Vegetable oil production facilities.

Respondent's obligation to respond: Mandatory (40 CFR part 63, subpart GGGG).

Estimated number of respondents: 89 (total).

Frequency of response: Initially and annually.

Annual estimated burden: 34,700 hours.

Annual estimated cost: $3,340,000, includes no annualized capital or O&M costs.

Changes in Estimates: There is a projected increase in burden due to reconstruction of existing sources.

(9) Docket ID Number: EPA-HQ-OECA-2014-0080; Title: NESHAP for Cellulose Products Manufacturing (40 CFR part 63, subpart UUUU); EPA ICR Number 1974.08; OMB Control Number 2060-0488; Expiration Date: April 30, 2018.

Respondents: Cellulose products manufacturing plants.

Respondent's obligation to respond: Mandatory (40 CFR part 63, subpart UUUU).

Estimated number of respondents: 13 (total).

Frequency of response: Initially and semiannually.

Annual estimated burden: 12,100 hours.

Annual estimated cost: $1,180,000, includes $1,010 annualized capital or O&M costs.

Changes in Estimates: There is no change in burden from the previous ICR.

(10) Docket ID Number: EPA-HQ-OECA-2014-0041; Title: NSPS for Glass Manufacturing Plants (40 CFR part 60, subpart CC); EPA ICR Number 1131.11; OMB Control Number 2060-0054; Expiration Date: May 31, 2018.

Respondents: Glass manufacturing facilities.

Respondent's obligation to respond: Mandatory (40 CFR part 60, subpart CC).

Estimated number of respondents: 41 (total).

Frequency of response: Initially, semiannually and annually.

Annual estimated burden: 803 hours.

Annual estimated cost: $315,000, includes $238,000 annualized capital or O&M costs.

Changes in Estimates: There is no change in burden from the previous ICR.

(11) Docket ID Number: EPA-HQ-OECA-2013-0349; Title: NESHAP for Pharmaceutical Production (40 CFR part 63, subpart GGG); EPA ICR Number 1781.08; OMB Control Number 2060-0358; Expiration Date: May 31, 2018.

Respondents: Pharmaceutical production facilities.

Respondent's obligation to respond: Mandatory (40 CFR part 63, subpart GGG).

Estimated number of respondents: 27 (total).

Frequency of response: Initially, occasionally and semiannually.

Annual estimated burden: 44,300 hours.

Annual estimated cost: $4,440,000, includes $112,000 annualized capital or O&M costs.

Changes in Estimates: There is no change in burden from the previous ICR.

(12) Docket ID Number: EPA-HQ-OECA-2013-0322; Title: NESHAP for Beryllium Rocket Motor Fuel Firing (40 CFR part 61, subpart D); EPA ICR Number 1125.08; OMB Control Number 2060-0394; Expiration Date: May 31, 2018.

Respondents: Beryllium rocket static test firing or beryllium propellant disposal facilities.

Respondent's obligation to respond: Mandatory (40 CFR part 61, subpart D).

Estimated number of respondents: 1 (total).

Frequency of response: Initially and occasionally.

Annual estimated burden: 9 hours.

Annual estimated cost: $930, includes no annualized capital or O&M costs.

Changes in Estimates: There is no change in burden from the previous ICR.

(13) Docket ID Number: EPA-HQ-OECA-2013-0356; Title: NESHAP for Group I Polymers and Resins (40 CFR part 63, subpart U); EPA ICR Number 2410.04; OMB Control Number 2060-0665; Expiration Date: May 31, 2018.

Respondents: Facilities with elastomer product process units and associated equipment.

Respondent's obligation to respond: Mandatory (40 CFR part 63, subpart U).

Estimated number of respondents: 5 (total).

Frequency of response: Initially and semiannually.

Annual estimated burden: 315 hours.

Annual estimated cost: $16,800, includes no annualized capital or O&M costs.

Changes in Estimates: There is no change in burden from the previous ICR.

(14) Docket ID Number: EPA-HQ-OECA-2013-0348; Title: NESHAP for Primary Aluminum Reduction Plants (40 CFR part 63, subpart LL); EPA ICR Number 1767.08; OMB Control Number 2060-0360; Expiration Date: June 30, 2018.

Respondents: Primary aluminum reduction plants.

Respondent's obligation to respond: Mandatory (40 CFR part 63, subpart LL).

Estimated number of respondents: 16 (total).

Frequency of response: Initially and semiannually.

Annual estimated burden: 80,400 hours.

Annual estimated cost: $7,600,000, includes $91,400 annualized capital or O&M costs.

Changes in Estimates: There is no change in burden from the previous ICR.

(15) Docket ID Number: EPA-HQ-OECA-2013-0323; Title: NESHAP for Area Sources: Electric Arc Furnace Steelmaking Facilities (40 CFR part 63, subpart YYYYY); EPA ICR Number 2277.05; OMB Control Number 2060-0608; Expiration Date: June 30, 2018.

Respondents: Area source electric arc furnace steelmaking facilities.

Respondent's obligation to respond: Mandatory (40 CFR part 63, subpart YYYYY).

Estimated number of respondents: 87 (total).

Frequency of response: Initially and semiannually.

Annual estimated burden: 1,420 hours.

Annual estimated cost: $136,000, includes no annualized capital or O&M costs.

Changes in Estimates: There is no change in burden from the previous ICR.

(16) Docket ID Number: EPA-HQ-OECA-2014-0027; Title: NSPS for Bulk Gasoline Terminals (40 CFR part 60, subpart XX); EPA ICR Number 0664.12; OMB Control Number 2060-0006; Expiration Date: August 31, 2018.

Respondents: Bulk gasoline terminals.

Respondent's obligation to respond: Mandatory (40 CFR part 60, subpart XX).

Estimated number of respondents: 40 (total).

Frequency of response: Initially and occasionally.

Annual estimated burden: 13,200 hours.

Annual estimated cost: $1,290,000, includes no annualized capital or O&M costs.

Changes in Estimates: There is no change in burden from the previous ICR.

(17) Docket ID Number: EPA-HQ-OECA-2013-0327; Title: NSPS for Portland Cement Plants (40 CFR part 60, subpart F); EPA ICR Number 1051.14; OMB Control Number 2060-0025; Expiration Date: August 31, 2018.

Respondents: Portland cement plants.

Respondent's obligation to respond: Mandatory (40 CFR part 60, subpart F).

Estimated number of respondents: 96 (total).

Frequency of response: Initially and semiannually.

Annual estimated burden: 14,500 hours.

Annual estimated cost: $2,190,000, includes $774,000 annualized capital or O&M costs.

Changes in Estimates: There is no change in burden from the previous ICR.

(18) Docket ID Number: EPA-HQ-OECA-2014-0043; Title: NSPS for Polymeric Coating of Supporting Substrates Facilities (40 CFR part 60, subpart VVV); EPA ICR Number 1284.11; OMB Control Number 2060-0181; Expiration Date: August 31, 2018.

Respondents: Polymeric coating facilities.

Respondent's obligation to respond: Mandatory (40 CFR part 60, subpart VVV).

Estimated number of respondents: 58 (total).

Frequency of response: Initially, quarterly and semiannually.

Annual estimated burden: 13,700 hours.

Annual estimated cost: $2,000,000, includes $658,000 annualized capital or O&M costs.

Changes in Estimates: There is a projected increase in burden due to an increase in the number of sources subject to the regulation.

(19) Docket ID Number: EPA-HQ-OECA-2014-0059; Title: NESHAP for Natural Gas Transmission and Storage (40 CFR part 63, subpart HHH); EPA ICR Number 1789.10; OMB Control Number 2060-0418; Expiration Date: August 31, 2018.

Respondents: Facilities that transport or store natural gas prior to entering the pipeline.

Respondent's obligation to respond: Mandatory (40 CFR part 63, subpart HHH).

Estimated number of respondents: 37 (total).

Frequency of response: Initially and semiannually.

Annual estimated burden: 2,000 hours.

Annual estimated cost: $205,000, includes no annualized capital or O&M costs.

Changes in Estimates: There is a projected increase in burden due to an increase in the number of sources subject to the regulation.

(20) Docket ID Number: EPA-HQ-OECA-2014-0085; Title: NESHAP for Friction Materials Manufacturing (40 CFR part 63, subpart QQQQQ); EPA ICR Number 2025.07; OMB Control Number 2060-0481; Expiration Date: August 31, 2018.

Respondents: Friction materials manufacturing facilities.

Respondent's obligation to respond: Mandatory (40 CFR part 63, subpart QQQQQ).

Estimated number of respondents: 4 (total).

Frequency of response: Initially, semiannually and annually.

Annual estimated burden: 1,290 hours.

Annual estimated cost: $127,000, includes $1,090 annualized capital or O&M costs.

Changes in Estimates: There is no change in burden from the previous ICR.

(21) Docket ID Number: EPA-HQ-OECA-2014-0099; Title: NESHAP for Ferroalloys Production Area Sources (40 CFR part 63, subpart YYYYYY); EPA ICR Number 2303.05; OMB Control Number 2060-0625; Expiration Date: August 31, 2018.

Respondents: Ferroalloys production facilities.

Respondent's obligation to respond: Mandatory (40 CFR part 63, subpart YYYYYY).

Estimated number of respondents: 10 (total).

Frequency of response: Initially and annually.

Annual estimated burden: 345 hours.

Annual estimated cost: $33,000, includes no annualized capital or O&M costs.

Changes in Estimates: There is no change in burden from the previous ICR.

(22) Docket ID Number: EPA-HQ-OECA-2013-0311; Title: Emission Guidelines for Sewage Sludge Incinerators (40 CFR part 60, subpart MMMM); EPA ICR Number 2403.04; OMB Control Number 2060-0661; Expiration Date: August 31, 2018.

Respondents: Sewage sludge incinerators constructed on or before October 14, 2010.

Respondent's obligation to respond: Mandatory (40 CFR part 60, subpart MMMM).

Estimated number of respondents: 110 (total).

Frequency of response: Initially, semiannually and annually.

Annual estimated burden: 29,100 hours.

Annual estimated cost: $7,580,000, includes $4,730,000 annualized capital or O&M costs.

Changes in Estimates: There is no change in burden from the previous ICR.

(23) Docket ID Number: EPA-HQ-OECA-2014-0035; Title: NSPS for Sulfuric Acid Plants (40 CFR part 60, subpart H); EPA ICR Number 1057.14; OMB Control Number 2060-0041; Expiration Date: September 30, 2018.

Respondents: Sulfuric acid plants.

Respondent's obligation to respond: Mandatory (40 CFR part 60, subpart H).

Estimated number of respondents: 53 (total).

Frequency of response: Initially and semiannually.

Annual estimated burden: 13,400 hours.

Annual estimated cost: $1,550,000, includes $239,000 annualized capital or O&M costs.

Changes in Estimates: There is no change in burden from the previous ICR.

(24) Docket ID Number: EPA-HQ-OECA-2014-0061; Title: NESHAP for Chemical Recovery Combustion Sources at Kraft, Soda, Sulfite and Stand-Alone Semichemical Pulp Mills (40 CFR part 63, subpart MM); EPA ICR Number 1805.08; OMB Control Number 2060-0377; Expiration Date: October 31, 2018.

Respondents: Kraft, soda, sulfite, and stand-alone semichemical pulp mills.

Respondent's obligation to respond: Mandatory (40 CFR part 63, subpart MM).

Estimated number of respondents: 111 (total).

Frequency of response: Initially, quarterly and semiannually.

Annual estimated burden: 124,000 hours.

Annual estimated cost: $13,000,000, includes $712,000 annualized capital or O&M costs.

Changes in Estimates: There is no change in burden from the previous ICR.

(25) Docket ID Number: EPA-HQ-OECA-2014-0067; Title: NESHAP for Primary Copper Smelters (40 CFR part 63, subpart QQQ); EPA ICR Number 1850.08; OMB Control Number 2060-0476; Expiration Date: October 31, 2018.

Respondents: Primary copper smelters.

Respondent's obligation to respond: Mandatory (40 CFR part 63, subpart QQQ).

Estimated number of respondents: 3 (total).

Frequency of response: Initially and semiannually.

Annual estimated burden: 9,380 hours.

Annual estimated cost: $927,000, includes $8,220 annualized capital or O&M costs.

Changes in Estimates: There is no change in burden from the previous ICR.

(26) Docket ID Number: EPA-HQ-OECA-2014-0033; Title: NSPS for Petroleum Refineries (40 CFR part 60, subpart J); EPA ICR Number 1054.13; OMB Control Number 2060-0022; Expiration Date: November 30, 2018.

Respondents: Fluid catalytic cracking unit catalyst regenerator or fuel gas combustion device at petroleum refineries.

Respondent's obligation to respond: Mandatory (40 CFR part 60, subpart J).

Estimated number of respondents: 150 (total).

Frequency of response: Initially and semiannually.

Annual estimated burden: 15,800 hours.

Annual estimated cost: $2,260,000, includes $719,000 annualized capital or O&M costs.

Changes in Estimates: There is no change in burden from the previous ICR.

(27) Docket ID Number: EPA-HQ-OECA-2014-0037; Title: NSPS for Primary and Secondary Emissions from Basic Oxygen Furnaces (40 CFR part 60, subparts N and Na); EPA ICR Number 1069.12; OMB Control Number 2060-0029; Expiration Date: November 30, 2018.

Respondents: Basic oxygen process furnace at iron and steel plants.

Respondent's obligation to respond: Mandatory (40 CFR part 60, subparts N and Na).

Estimated number of respondents: 18 (total).

Frequency of response: Initially and semiannually.

Annual estimated burden: 6,260 hours.

Annual estimated cost: $643,000, includes $29,700 annualized capital or O&M costs.

Changes in Estimates: There is no change in burden from the previous ICR.

(28) Docket ID Number: EPA-HQ-OECA-2014-0038; Title: NESHAP for Inorganic Arsenic Emissions from Glass Manufacturing Plants (40 CFR part 61, subpart N); EPA ICR Number 1081.12; OMB Control Number 2060-0043; Expiration Date: November 30, 2018.

Respondents: Glass manufacturing plants.

Respondent's obligation to respond: Mandatory (40 CFR part 61, subpart N).

Estimated number of respondents: 16 (total).

Frequency of response: Initially, occasionally and semiannually.

Annual estimated burden: 3,080 hours.

Annual estimated cost: $366,000, includes $56,000 annualized capital or O&M costs.

Changes in Estimates: There is no change in burden from the previous ICR.

(29) Docket ID Number: EPA-HQ-OECA-2014-0042; Title: NSPS for Lime Manufacturing (40 CFR part 60, subpart HH); EPA ICR Number 1167.12; OMB Control Number 2060-0063; Expiration Date: November 30, 2018.

Respondents: Lime manufacturing plants.

Respondent's obligation to respond: Mandatory (40 CFR part 60, subpart HH).

Estimated number of respondents: 41 (total).

Frequency of response: Initially and semiannually.

Annual estimated burden: 3,770 hours.

Annual estimated cost: $441,000, includes $61,500 annualized capital or O&M costs.

Changes in Estimates: There is no change in burden from the previous ICR.

(30) Docket ID Number: EPA-HQ-OECA-2013-0328; Title: NESHAP for Vinyl Chloride (40 CFR part 61, subpart F); EPA ICR Number 0186.14; OMB Control Number 2060-0071; Expiration Date: November 30, 2018.

Respondents: Ethylene dichloride, vinyl chloride monomer, and polyvinyl chloride plants.

Respondent's obligation to respond: Mandatory (40 CFR part 61, subpart F).

Estimated number of respondents: 18 (total).

Frequency of response: Quarterly and occasionally.

Annual estimated burden: 7,600 hours.

Annual estimated cost: $1,550,000, includes $810,000 annualized capital or O&M costs.

Changes in Estimates: There is no change in burden from the previous ICR.

(31) Docket ID Number: EPA-HQ-OECA-2014-0040; Title: NSPS for Hot Mix Asphalt Facilities (40 CFR part 60, subpart I); EPA ICR Number 1127.12; OMB Control Number 2060-0083; Expiration Date: November 30, 2018.

Respondents: Hot mix asphalt facilities.

Respondent's obligation to respond: Mandatory (40 CFR part 60, subpart I).

Estimated number of respondents: 4,535 (total).

Frequency of response: Initially.

Annual estimated burden: 18,800 hours.

Annual estimated cost: $1,890,000, includes no annualized capital or O&M costs.

Changes in Estimates: There is a projected increase in burden due to an increase in the number of sources subject to the regulation.

(32) Docket ID Number: EPA-HQ-OECA-2014-0026; Title: NSPS for Metal Coil Surface Coating (40 CFR part 60, subpart TT); EPA ICR Number 0660.13; OMB Control Number 2060-0107; Expiration Date: November 30, 2018.

Respondents: Metal coil surface coating facilities.

Respondent's obligation to respond: Mandatory (40 CFR part 60, subpart TT).

Estimated number of respondents: 158 (total).

Frequency of response: Initially, occasionally and semiannually.

Annual estimated burden: 15,600 hours.

Annual estimated cost: $1,860,000, includes $332,000 annualized capital or O&M costs.

Changes in Estimates: There is no change in burden from the previous ICR.

(33) Docket ID Number: EPA-HQ-OECA-2014-0047; Title: NSPS for Municipal Solid Waste Landfills (40 CFR part 60, subpart WWW); EPA ICR Number 1557.10; OMB Control Number 2060-0220; Expiration Date: November 30, 2018.

Respondents: Municipal solid waste landfills constructed, modified, or reconstructed on or after May 30, 1991.

Respondent's obligation to respond: Mandatory (40 CFR part 60, subpart WWW).

Estimated number of respondents: 195 (total).

Frequency of response: Initially, occasionally and annually.

Annual estimated burden: 111,000 hours.

Annual estimated cost: $11,600,000, includes $700,000 annualized capital or O&M costs.

Changes in Estimates: There is a projected increase in burden due to an increase in the number of sources subject to the regulation.

(34) Docket ID Number: EPA-HQ-OECA-2014-0055; Title: NESHAP for Secondary Lead Smelter Industry (40 CFR part 63, subpart X); EPA ICR Number 1686.11; OMB Control Number 2060-0296; Expiration Date: November 30, 2018.

Respondents: Secondary lead smelters.

Respondent's obligation to respond: Mandatory (40 CFR part 63, subpart X).

Estimated number of respondents: 14 (total).

Frequency of response: Initially, semiannually and annually.

Annual estimated burden: 13,000 hours.

Annual estimated cost: $1,650,000, includes $375,000 annualized capital or O&M costs.

Changes in Estimates: There is no change in burden from the previous ICR.

(35) Docket ID Number: EPA-HQ-OECA-2014-0057; Title: NESHAP for Wood Furniture Manufacturing Operations (40 CFR part 63, subpart JJ); EPA ICR Number 1716.10; OMB Control Number 2060-0324; Expiration Date: November 30, 2018.

Respondents: Wood furniture manufacturing facilities.

Respondent's obligation to respond: Mandatory (40 CFR part 63, subpart JJ).

Estimated number of respondents: 856 (total).

Frequency of response: Initially, occasionally, quarterly and semiannually.

Annual estimated burden: 66,200 hours.

Annual estimated cost: $6,510,000, includes $24,600 annualized capital or O&M costs.

Changes in Estimates: There is no change in burden from the previous ICR.

(36) Docket ID Number: EPA-HQ-OECA-2014-0068; Title: NESHAP for Primary Lead Smelters (40 CFR part 63, subpart TTT); EPA ICR Number 1856.11; OMB Control Number 2060-0414; Expiration Date: November 30, 2018.

Respondents: Primary lead smelters.

Respondent's obligation to respond: Mandatory (40 CFR part 63, subpart TTT).

Estimated number of respondents: 1 (total).

Frequency of response: Quarterly and semiannually.

Annual estimated burden: 6,270 hours.

Annual estimated cost: $782,000, includes $169,000 annualized capital or O&M costs.

Changes in Estimates: There is no change in burden from the previous ICR.

(37) Docket ID Number: EPA-HQ-OECA-2014-0091; Title: NESHAP for Engine Test Cells/Stands (40 CFR part 63, subpart PPPPP); EPA ICR Number 2066.07; OMB Control Number 2060-0483; Expiration Date: November 30, 2018.

Respondents: Internal combustion engine test cells/stands at major source facilities.

Respondent's obligation to respond: Mandatory (40 CFR part 63, subpart PPPPP).

Estimated number of respondents: 18 (total).

Frequency of response: Semiannually.

Annual estimated burden: 1,720 hours.

Annual estimated cost: $173,000, includes $5,400 annualized capital or O&M costs.

Changes in Estimates: There is no change in burden from the previous ICR.

(38) Docket ID Number: EPA-HQ-OECA-2014-0078; Title: NESHAP for Metal Coil Surface Coating Plants (40 CFR part 63, subpart SSSS); EPA ICR Number 1957.08; OMB Control Number 2060-0487; Expiration Date: November 30, 2018.

Respondents: Metal coil surface coating facilities.

Respondent's obligation to respond: Mandatory (40 CFR part 63, subpart SSSS).

Estimated number of respondents: 89 (total).

Frequency of response: Initially, occasionally and semiannually.

Annual estimated burden: 25,100 hours.

Annual estimated cost: $2,550,000, includes $91,200 annualized capital or O&M costs.

Changes in Estimates: There is no change in burden from the previous ICR.

(39) Docket ID Number: EPA-HQ-OECA-2013-0352; Title: NESHAP for Industrial, Commercial, and Institutional Boilers and Process Heaters (40 CFR part 63, subpart DDDDD); EPA ICR Number 2028.09; OMB Control Number 2060-0551; Expiration Date: November 30, 2018.

Respondents: Industrial, commercial and institutional boilers and process heaters.

Respondent's obligation to respond: Mandatory (40 CFR part 63, subpart DDDDD).

Estimated number of respondents: 1,700 (total).

Frequency of response: Initially, occasionally and semiannually.

Annual estimated burden: 493,000 hours.

Annual estimated cost: $155,000,000, includes $108,000,000 annualized capital or O&M costs.

Changes in Estimates: There is a projected increase in burden due to an increase in the number of sources subject to the regulation.

(40) Docket ID Number: EPA-HQ-OECA-2011-0256; Title: Emission Guidelines for Existing Other Solid Waste Incineration Units (40 CFR part 60, subpart FFFF); EPA ICR Number 2164.06; OMB Control Number 2060-0562; Expiration Date: November 30, 2018.

Respondents: Other solid waste incineration units.

Respondent's obligation to respond: Mandatory (40 CFR part 60, subpart FFFF).

Estimated number of respondents: 99 (total).

Frequency of response: Initially, semiannually and annually.

Annual estimated burden: 70,200 hours.

Annual estimated cost: $7,560,000, includes $495,000 annualized capital or O&M costs.

Changes in Estimates: There is no change in burden from the previous ICR.

(41) Docket ID Number: EPA-HQ-OECA-2014-0094; Title: NSPS for Other Solid Waste Incineration Units (40 CFR part 60, subpart EEEE); EPA ICR Number 2163.06; OMB Control Number 2060-0563; Expiration Date: November 30, 2018.

Respondents: Other solid waste incineration units.

Respondent's obligation to respond: Mandatory (40 CFR part 60, subpart EEEE).

Estimated number of respondents: 0 (total).

Frequency of response: Initially, semiannually and annually.

Annual estimated burden: 0 hours.

Annual estimated cost: $0, includes no annualized capital or O&M costs.

Changes in Estimates: There is no change in burden from the previous ICR.

(42) Docket ID Number: EPA-HQ-OECA-2014-0096; Title: NESHAP for Iron and Steel Foundries (40 CFR part 63, subpart ZZZZZ); EPA ICR Number 2267.05; OMB Control Number 2060-0605; Expiration Date: November 30, 2018.

Respondents: Area source iron and steel foundries.

Respondent's obligation to respond: Mandatory (40 CFR part 63, subpart ZZZZZ).

Estimated number of respondents: 427 (total).

Frequency of response: Initially, occasionally and semiannually.

Annual estimated burden: 7,890 hours.

Annual estimated cost: $773,000, includes no annualized capital or O&M costs.

Changes in Estimates: There is no change in burden from the previous ICR.

(43) Docket ID Number: EPA-HQ-OECA-2014-0097; Title: NESHAP for Plating and Polishing Area Sources (40 CFR part 63, subpart WWWWWW); EPA ICR Number 2294.05; OMB Control Number 2060-0623; Expiration Date: November 30, 2018.

Respondents: Area source plating and polishing facilities.

Respondent's obligation to respond: Mandatory (40 CFR part 63, subpart WWWWWW).

Estimated number of respondents: 2,900 (total).

Frequency of response: Initially and annually.

Annual estimated burden: 64,300 hours.

Annual estimated cost: $6,300,000, includes $8,310 annualized capital or O&M costs.

Changes in Estimates: There is no change in burden from the previous ICR.

(44) Docket ID Number: EPA-HQ-OECA-2014-0030; Title: NSPS for Metallic Mineral Processing Plants (40 CFR part 60, subpart LL); EPA ICR Number 0982.12; OMB Control Number 2060-0016; Expiration Date: December 31, 2018.

Respondents: Metallic mineral processing plants.

Respondent's obligation to respond: Mandatory (40 CFR part 60, subpart LL).

Estimated number of respondents: 20 (total).

Frequency of response: Initially and semiannually.

Annual estimated burden: 2,300 hours.

Annual estimated cost: $239,000, includes $13,000 annualized capital or O&M costs.

Changes in Estimates: There is no change in burden from the previous ICR.

(45) Docket ID Number: EPA-HQ-OECA-2014-0034; Title: NSPS for Kraft Pulp Mills (40 CFR part 60, subpart BB); EPA ICR Number 1055.12; OMB Control Number 2060-0021; Expiration Date: December 31, 2018.

Respondents: Kraft pulp mills.

Respondent's obligation to respond: Mandatory (40 CFR part 60, subpart BB).

Estimated number of respondents: 110 (total).

Frequency of response: Initially, occasionally and semiannually.

Annual estimated burden: 16,700 hours.

Annual estimated cost: $6,010,000, includes $4,330,000 annualized capital or O&M costs.

Changes in Estimates: There is a projected increase in burden due to an increase in the number of sources subject to the regulation.

(46) Docket ID Number: EPA-HQ-OECA-2014-0045; Title: NSPS for Municipal Waste Combustors (40 CFR part 60, subparts Ea and Eb); EPA ICR Number 1506.14; OMB Control Number 2060-0210; Expiration Date: December 31, 2018.

Respondents: Municipal waste combustors.

Respondent's obligation to respond: Mandatory (40 CFR part 60, subparts Ea and Eb).

Estimated number of respondents: 13 (total).

Frequency of response: Initially, occasionally, quarterly and semiannually.

Annual estimated burden: 20,300 hours.

Annual estimated cost: $1,880,000, includes $117,000 annualized capital or O&M costs.

Changes in Estimates: There is no change in burden from the previous ICR.

(47) Docket ID Number: EPA-HQ-OECA-2014-0062; Title: NESHAP for Pesticide Active Ingredient Production (40 CFR part 63, subpart MMM); EPA ICR Number 1807.09; OMB Control Number 2060-0370; Expiration Date: December 31, 2018.

Respondents: Pesticide active ingredient production facilities.

Respondent's obligation to respond: Mandatory (40 CFR part 63, subpart MMM).

Estimated number of respondents: 18 (total).

Frequency of response: Initially, quarterly and semiannually.

Annual estimated burden: 12,000 hours.

Annual estimated cost: $1,420,000, includes $236,000 annualized capital or O&M costs.

Changes in Estimates: There is no change in burden from the previous ICR.

(48) Docket ID Number: EPA-HQ-OECA-2014-0066; Title: NESHAP for Ferroalloys Production: Ferromanganese and Silicomanganese (40 CFR part 63, subpart XXX); EPA ICR Number 1831.07; OMB Control Number 2060-0391; Expiration Date: December 31, 2018.

Respondents: Ferroalloy production facilities that manufacture ferromanganese and silicomanganese.

Respondent's obligation to respond: Mandatory (40 CFR part 63, subpart XXX).

Estimated number of respondents: 1 (total).

Frequency of response: Initially, quarterly, semiannually and annually.

Annual estimated burden: 600 hours.

Annual estimated cost: $57,200, includes no annualized capital or O&M costs.

Changes in Estimates: There is no change in burden from the previous ICR.

(49) Docket ID Number: EPA-HQ-OECA-2014-0083; Title: NESHAP for Leather Finishing Operations (40 CFR part 63, subpart TTTT); EPA ICR Number 1985.07; OMB Control Number 2060-0478; Expiration Date: December 31, 2018.

Respondents: Leather finishing facilities.

Respondent's obligation to respond: Mandatory (40 CFR part 63, subpart TTTT).

Estimated number of respondents: 10 (total).

Frequency of response: Initially, occasionally and annually.

Annual estimated burden: 334 hours.

Annual estimated cost: $32,700, includes no annualized capital or O&M costs.

Changes in Estimates: There is no change in burden from the previous ICR.

(50) Docket ID Number: EPA-HQ-OECA-2014-0082; Title: NESHAP for Carbon Black, Ethylene, Cyanide, and Spandex (40 CFR part 63, subpart YY); EPA ICR Number 1983.08; OMB Control Number 2060-0489; Expiration Date: December 31, 2018.

Respondents: Carbon black production, ethylene production, cyanide manufacturing, and spandex production facilities.

Respondent's obligation to respond: Mandatory (40 CFR part 63, subpart YY).

Estimated number of respondents: 61 (total).

Frequency of response: Initially, occasionally and semiannually.

Annual estimated burden: 41,800 hours.

Annual estimated cost: $4,550,000, includes $351,000 annualized capital or O&M costs.

Changes in Estimates: There is no change in burden from the previous ICR.

(51) Docket ID Number: EPA-HQ-OECA-2014-0079; Title: NESHAP for Wet-Formed Fiberglass Mat Production (40 CFR part 63, subpart HHHH); EPA ICR Number 1964.07; OMB Control Number 2060-0496; Expiration Date: December 31, 2018.

Respondents: Wet-formed fiberglass mat production facilities.

Respondent's obligation to respond: Mandatory (40 CFR part 63, subpart HHHH).

Estimated number of respondents: 14 (total).

Frequency of response: Initially, occasionally and semiannually.

Annual estimated burden: 2,800 hours.

Annual estimated cost: $285,000, includes no annualized capital or O&M costs.

Changes in Estimates: There is no change in burden from the previous ICR.

(52) Docket ID Number: EPA-HQ-OECA-2014-0093; Title: NESHAP for Coal- and Oil-fired Electric Utility Steam Generating Units (40 CFR part 63, subpart UUUUU); EPA ICR Number 2137.08; OMB Control Number 2060-0567; Expiration Date: December 31, 2018.

Respondents: Electric utility steam generating units.

Respondent's obligation to respond: Mandatory (40 CFR part 63, subpart UUUUU).

Estimated number of respondents: 1,254 (total).

Frequency of response: Initially, occasionally and semiannually.

Annual estimated burden: 670,000 hours.

Annual estimated cost: $67,300,000, includes $1,690,000 annualized capital or O&M costs.

Changes in Estimates: There is a projected increase in burden due to an increase in the number of sources subject to the regulation.

(53) Docket ID Number: EPA-HQ-OECA-2013-0354; Title: NESHAP for Paint Stripping and Miscellaneous Surface Coating at Area Sources (40 CFR part 63, subpart HHHHHH); EPA ICR Number 2268.05; OMB Control Number 2060-0607; Expiration Date: December 31, 2018.

Respondents: Area source facilities that use methylene chloride paint strippers.

Respondent's obligation to respond: Mandatory (40 CFR part 63, subpart HHHHHH).

Estimated number of respondents: 39,812 (total).

Frequency of response: Initially and annually.

Annual estimated burden: 125,000 hours.

Annual estimated cost: $1,180,000, includes $117,000 annualized capital or O&M costs.

Changes in Estimates: There is no change in burden from the previous ICR.

(54) Docket ID Number: EPA-HQ-OECA-2014-0095; Title: NESHAP for Gasoline Distribution Bulk Terminals, Bulk Plants, Pipeline Facilities and Gasoline Dispensing Facilities (40 CFR part 63, subparts BBBBBB and CCCCCC); EPA ICR Number 2237.05; OMB Control Number 2060-0620; Expiration Date: December 31, 2018.

Respondents: Area source gasoline distribution facilities.

Respondent's obligation to respond: Mandatory (40 CFR part 63, subparts BBBBBB and CCCCCC).

Estimated number of respondents: 19,120 (total).

Frequency of response: Initially, occasionally and semiannually.

Annual estimated burden: 175,000 hours.

Annual estimated cost: $17,300,000, includes $110,000 annualized capital or O&M costs.

Changes in Estimates: There is no change in burden from the previous ICR.

(55) Docket ID Number: EPA-HQ-OECA-2013-0312; Title: Emission Guidelines for Commercial and Industrial Solid Waste Incineration Units (40 CFR part 60, subpart DDDD); EPA ICR Number 2385.07; OMB Control Number 2060-0664; Expiration Date: December 31, 2018.

Respondents: Commercial and industrial solid waste incineration units.

Respondent's obligation to respond: Mandatory (40 CFR part 60, subpart DDDD).

Estimated number of respondents: 57 (total).

Frequency of response: Initially, occasionally, semiannually and annually.

Annual estimated burden: 7,380 hours.

Annual estimated cost: $8,690,000, includes $8,270,000 annualized capital or O&M costs.

Changes in Estimates: There is no change in burden from the previous ICR.

(56) Docket ID Number: EPA-HQ-OECA-2014-0044; Title: NESHAP for Coke Oven Batteries (40 CFR part 63, subpart L); EPA ICR Number 1362.11; OMB Control Number 2060-0253; Expiration Date: January 31, 2019.

Respondents: Coke oven batteries.

Respondent's obligation to respond: Mandatory (40 CFR part 63, subpart L).

Estimated number of respondents: 19 (total).

Frequency of response: Initially, occasionally and semiannually.

Annual estimated burden: 80,000 hours.

Annual estimated cost: $8,020,000, includes no annualized capital or O&M costs.

Changes in Estimates: There is no change in burden from the previous ICR.

(57) Docket ID Number: EPA-HQ-OECA-2012-0668; Title: NESHAP for Flexible Polyurethane Foam Product (40 CFR part 63, subpart III); EPA ICR Number 1783.09; OMB Control Number 2060-0357; Expiration Date: January 31, 2019.

Respondents: Flexible polyurethane foam product manufacturing facilities.

Respondent's obligation to respond: Mandatory (40 CFR part 63, subpart III).

Estimated number of respondents: 12 (total).

Frequency of response: Initially, semiannually and annually.

Annual estimated burden: 882 hours.

Annual estimated cost: $46,800, includes no annualized capital or O&M costs.

Changes in Estimates: There is no change in burden from the previous ICR.

(58) Docket ID Number: EPA-HQ-OECA-2014-0064; Title: NESHAP for Steel Pickling, HCl Process Facilities and Hydrochloric Acid Regeneration Plants (40 CFR part 63, subpart CCC); EPA ICR Number 1821.09; OMB Control Number 2060-0419; Expiration Date: January 31, 2019.

Respondents: Facilities that pickle steel using HCl or regenerate HCl.

Respondent's obligation to respond: Mandatory (40 CFR part 63, subpart CCC).

Estimated number of respondents: 100 (total).

Frequency of response: Initially, occasionally and semiannually.

Annual estimated burden: 35,100 hours.

Annual estimated cost: $3,540,000, includes $10,600 annualized capital or O&M costs.

Changes in Estimates: There is no change in burden from the previous ICR.

(59) Docket ID Number: EPA-HQ-OECA-2012-0532; Title: NSPS for Beverage Can Surface Coating (40 CFR part 60, subpart WW); EPA ICR Number 0663.13; OMB Control Number 2060-0001; Expiration Date: March 31, 2019.

Respondents: Beverage can surface coating facilities.

Respondent's obligation to respond: Mandatory (40 CFR part 60, subpart WW).

Estimated number of respondents: 48 (total).

Frequency of response: Initially, occasionally and semiannually.

Annual estimated burden: 5,190 hours.

Annual estimated cost: $623,000, includes $101,000 annualized capital or O&M costs.

Changes in Estimates: There is no change in burden from the previous ICR.

(60) Docket ID Number: EPA-HQ-OECA-2014-0039; Title: NSPS for Nonmetallic Mineral Processing (40 CFR part 60, subpart OOO); EPA ICR Number 1084.14; OMB Control Number 2060-0050; Expiration Date: March 31, 2019.

Respondents: Fixed and portable nonmetallic mineral processing plants.

Respondent's obligation to respond: Mandatory (40 CFR part 60, subpart OOO).

Estimated number of respondents: 4,896 (total).

Frequency of response: Initially and occasionally.

Annual estimated burden: 14,100 hours.

Annual estimated cost: $1,650,000, includes $228,000 annualized capital or O&M costs.

Changes in Estimates: There is a projected increase in burden due to an increase in the number of sources subject to the regulation.

(61) Docket ID Number: EPA-HQ-OECA-2014-0031; Title: NSPS for Petroleum Dry Cleaners (40 CFR part 60, subpart JJJ); EPA ICR Number 0997.12; OMB Control Number 2060-0079; Expiration Date: March 31, 2019.

Respondents: Petroleum dry cleaning facilities.

Respondent's obligation to respond: Mandatory (40 CFR part 60, subpart JJJ).

Estimated number of respondents: 20 (total).

Frequency of response: Initially.

Annual estimated burden: 1,850 hours.

Annual estimated cost: $186,000, includes no annualized capital or O&M costs.

Changes in Estimates: There is no change in burden from the previous ICR.

(62) Docket ID Number: EPA-HQ-OECA-2012-0529; Title: NESHAP for Mercury (40 CFR part 61, subpart E); EPA ICR Number 0113.13; OMB Control Number 2060-0097; Expiration Date: March 31, 2019.

Respondents: Facilities that process mercury ore to recover mercury, use mercury chlor-alkali cells to produce chlorine gas and alkali metal hydroxide, and incinerate or dry wastewater treatment plant sludge.

Respondent's obligation to respond: Mandatory (40 CFR part 61, subpart E).

Estimated number of respondents: 107 (total).

Frequency of response: Initially, occasionally, semiannually and annually.

Annual estimated burden: 20,600 hours.

Annual estimated cost: $2,070,000, includes no annualized capital or O&M costs.

Changes in Estimates: There is no change in burden from the previous ICR.

(63) Docket ID Number: EPA-HQ-OECA-2014-0025; Title: NESHAP for Asbestos (40 CFR part 61, subpart M); EPA ICR Number 0111.15; OMB Control Number 2060-0101; Expiration Date: March 31, 2019.

Respondents: Demolition and renovation facilities; asbestos waste disposal; asbestos milling, manufacturing, and fabricating facilities; use of asbestos on roadways; asbestos waste converting facilities; and use of asbestos insulation and sprayed-on materials.

Respondent's obligation to respond: Mandatory (40 CFR part 61, subpart M).

Estimated number of respondents: 9,575 (total).

Frequency of response: Initially, occasionally, quarterly and semiannually.

Annual estimated burden: 292,000 hours.

Annual estimated cost: $29,400,000, includes no annualized capital or O&M costs.

Changes in Estimates: There is a projected increase in burden due to a net increase in the number of sources subject to the regulation.

(64) Docket ID Number: EPA-HQ-OECA-2012-0530; Title: NSPS for Metal Furniture Coating (40 CFR part 60, subpart EE); EPA ICR Number 0649.13; OMB Control Number 2060-0106; Expiration Date: March 31, 2019.

Respondents: Metal furniture surface coating facilities.

Respondent's obligation to respond: Mandatory (40 CFR part 60, subpart EE).

Estimated number of respondents: 400 (total).

Frequency of response: Initially, occasionally and semiannually.

Annual estimated burden: 56,500 hours.

Annual estimated cost: $6,530,000, includes $840,000 annualized capital or O&M costs.

Changes in Estimates: There is no change in burden from the previous ICR.

(65) Docket ID Number: EPA-HQ-OECA-2012-0531; Title: NSPS for Surface Coating of Large Appliances (40 CFR part 60, subpart SS); EPA ICR Number 0659.14; OMB Control Number 2060-0108; Expiration Date: March 31, 2019.

Respondents: Large appliance coating facilities.

Respondent's obligation to respond: Mandatory (40 CFR part 60, subpart SS).

Estimated number of respondents: 72 (total).

Frequency of response: Initially, occasionally and semiannually.

Annual estimated burden: 7,740 hours.

Annual estimated cost: $787,000, includes $8,400 annualized capital or O&M costs.

Changes in Estimates: There is no change in burden from the previous ICR.

(66) Docket ID Number: EPA-HQ-OECA-2013-0331; Title: NSPS for New Residential Wood Heaters (40 CFR part 60, subpart AAA); EPA ICR Number 1176.13; OMB Control Number 2060-0161; Expiration Date: March 31, 2019.

Respondents: Residential wood heaters.

Respondent's obligation to respond: Mandatory (40 CFR part 60, subpart AAA).

Estimated number of respondents: 66 (total).

Frequency of response: Initially, occasionally and semiannually.

Annual estimated burden: 8,840 hours.

Annual estimated cost: $1,720,000, includes $1,470,000 annualized capital or O&M costs.

Changes in Estimates: There is no change in burden from the previous ICR.

(67) Docket ID Number: EPA-HQ-OECA-2014-0046; Title: NESHAP for Benzene Waste Operations (40 CFR part 61, subpart FF); EPA ICR Number 1541.12; OMB Control Number 2060-0183; Expiration Date: March 31, 2019.

Respondents: Facilities that generate waste containing benzene, and hazardous waste treatment, storage, and disposal facilities.

Respondent's obligation to respond: Mandatory (40 CFR part 61, subpart FF).

Estimated number of respondents: 270 (total).

Frequency of response: Initially, quarterly and annually.

Annual estimated burden: 19,200 hours.

Annual estimated cost: $1,930,000, includes no annualized capital or O&M costs.

Changes in Estimates: There is no change in burden from the previous ICR.

(68) Docket ID Number: EPA-HQ-OECA-2009-0422; Title: NESHAP for Chromium Emissions from Hard and Decorative Chromium Electroplating and Chromium Anodizing Tanks (40 CFR part 63, subpart N); EPA ICR Number 1611.12; OMB Control Number 2060-0327; Expiration Date: March 31, 2019.

Respondents: Hard chromium electroplating, decorative chromium electroplating, and chromium anodizing facilities.

Respondent's obligation to respond: Mandatory (40 CFR part 63, subpart N).

Estimated number of respondents: 1,343 (total).

Frequency of response: Initially, occasionally and semiannually.

Annual estimated burden: 242,000 hours.

Annual estimated cost: $29,700,000, includes $20,400,000 annualized capital or O&M costs.

Changes in Estimates: There is no change in burden from the previous ICR.

(69) Docket ID Number: EPA-HQ-OECA-2017-0200; Title: NESHAP for Rubber Tire Manufacturing (40 CFR part 63, subpart XXXX); EPA ICR Number 1982.01; OMB Control Number 2060-NEW.

Respondents: Major source rubber tire manufacturing facilities.

Respondent's obligation to respond: Mandatory (40 CFR part 63, subpart XXXX).

Estimated number of respondents: 36 (total).

Frequency of response: Initially, occasionally and semiannually.

Annual estimated burden: 12,807 hours.

Annual estimated cost: $2,058,337, includes $1,357,000 annualized capital or O&M costs.

(70) Docket ID Number: EPA-HQ-OECA-2017-0201; Title: NESHAP for Inorganic Arsenic Emissions from Primary Copper Smelters (40 CFR part 61, subpart O); EPA ICR Number 1089.04; OMB Control Number 2060-NEW.

Respondents: Copper converter at primary copper smelters.

Respondent's obligation to respond: Mandatory (40 CFR part 61, subpart O).

Estimated number of respondents: 59 (total).

Frequency of response: Initially, quarterly and annually.

Annual estimated burden: 3,167 hours.

Annual estimated cost: $297,703, includes $2,000 annualized capital or O&M costs.

Dated: April 27, 2017.
Edward J. Messina,
Director, Monitoring, Assistance and Media Programs Division.

[FR Doc. 2017-13669 Filed 6-28-17; 8:45 am]

BILLING CODE 6560-50-P